DEPARTMENT OF HOMELAND SECURITY

Coast Guard

33 CFR Part 165

[Docket No. USCG-2015-0389]

RIN 1625-AA00

Safety Zone; Detroit Belle Isle Grand Prix, Detroit River; Detroit, MI

AGENCY: Coast Guard, DHS.

ACTION: Temporary final rule.

SUMMARY: The Coast Guard is establishing a temporary safety zone encompassing a portion of the Detroit River in Detroit, Michigan. This safety zone is necessary to protect Belle Isle Grand Prix participants, spectators and vessels from the hazards associated with a high speed automobile race in close proximity to a navigable waterway.

This safety zone will establish restrictions upon, and control movement of, vessels in a portion of the Detroit River. During the enforcement period, no person or vessel may enter the regulated area without permission of the Captain of the Port.

DATES: This temporary final rule is effective and will be enforced from 8 a.m. on May 29, 2015 until 8 p.m. on May 31, 2015.

ADDRESSES: Documents mentioned in this preamble are part of docket USCG-2015-0389. To view documents mentioned in this preamble as being available in the docket, go to www.regulations.gov, type the docket number in the “SEARCH” box, and click “Search.” You may visit the Docket Management Facility, Department of Transportation, West Building Ground Floor, Room W12-140, 1200 New Jersey Avenue SE., Washington, DC 20590, between 9 a.m. and 5 p.m., Monday through Friday, except Federal holidays.

FOR FURTHER INFORMATION CONTACT: If you have questions on this temporary rule, call or email PO1 Todd Manow, Prevention Department, Sector Detroit, Coast Guard; telephone 313-568-9580, email Todd.M.Manow@uscg.mil. If you have questions on viewing the docket, call Ms. Cheryl Collins, Program Manager, Docket Operations, telephone 202-366-9826 or 1-800-647-5527.

SUPPLEMENTARY INFORMATION:

Table of Acronyms

DHS Department of Homeland Security

FR Federal Register

NAD 83 North American Datum of 1983

A. Regulatory History and Information

The Coast Guard is issuing this temporary final rule without prior notice and opportunity to comment pursuant to authority under section 4(a) of the Administrative Procedure Act (APA) (5 U.S.C. 553(b)). This provision authorizes an agency to issue a rule without prior notice and opportunity to comment when the agency for good cause finds that those procedures are “impracticable, unnecessary, or contrary to the public interest.” Under 5 U.S.C. 553(b)(B), the Coast Guard finds that good cause exists for not publishing a notice of proposed rulemaking (NPRM) with respect to this rule because waiting for a notice and comment period to run would be impracticable, unnecessary, and contrary to the public interest. The final details of this event were not known to the Coast Guard with sufficient time for the Coast Guard to solicit public comments before the start of the event. Thus, delaying this temporary rule to wait for a notice and comment period to run would be impracticable and contrary to the public interest because it would inhibit the Coast Guard's ability to protect waterways users from the hazards associated with a high speed automobile race in close proximity to a navigable waterway.

Under 5 U.S.C. 553(d)(3), the Coast Guard finds that good cause exists for making this rule effective less than 30 days after publication in the Federal Register (FR). For the same reasons discussed in the preceding paragraph, waiting for a 30-day notice period to run would be impracticable and contrary to the public interest.

B. Basis and Purpose

The legal basis and authorities for this rule are found in 33 U.S.C. 1231, 46 U.S.C. Chapter 701, 3306, 3703; 50 U.S.C. 191, 195; 33 CFR 1.05-1, 6.04-1, 6.04-6, and 160.5; Public Law 107-295, 116 Stat. 2064; and Department of Homeland Security Delegation No. 0170.1, which collectively authorize the Coast Guard to establish and define regulatory safety zones.

On the morning of May 29, 2015, a series of high speed automobile races will begin and continue for three days until the evening of May 31, 2015. Participants in the Detroit Belle Isle Grand Prix will race on portions of the roadway in the Belle Isle Park that are very near to the waterfront, making these areas vulnerable in the event of a collision.

The Captain of the Port Detroit has determined that the likely combination of recreation vessels, commercial vessels, and large numbers of spectators in close proximity to the automobile races pose extra and unusual hazards to public safety and property. Thus, the Captain of the Port Detroit has determined that establishing a Safety Zone around the location of the racecourse will help minimize risks to safety of life and property during this event.

C. Discussion of Rule

In light of the aforementioned hazards, the Captain of the Port Detroit has determined that a temporary safety zone is necessary to prevent vessels from entering, transiting, or anchoring in the vicinity of the event. The safety zone will encompass a 50 yard wide zone around the western side of Belle Isle in U.S. Waters, of the Detroit River. The area will start on the west side of the Belle Isle Bridge at position 42°20.4′ N.; 082°59.8′ W. to 50 yards offshore; and will end 50 yards offshore south of the Dossin Museum parking lot, and extending to Belle Isle straight north to position 42°20.1′ N.; 082°59.0′ W. (all coordinates are NAD 83).

This safety zone is necessary in order to ensure the protection of Participants of the Detroit Belle Isle Grand Prix and waterways users transiting the area. This safety zone will be enforced from 8 a.m. until 8 p.m. each day on May 29, 30, and 31, 2015.

Entry into, transiting, or anchoring within this safety zone is prohibited unless authorized by the Captain of the Port Detroit or his designated on-scene representative.

Vessel operators desiring to transit through this safety zone must contact the Coast Guard Patrol Commander to obtain permission to do so. The Captain of the Port or his designated on-scene representative may be contacted via VHF Channel 16.

D. Regulatory Analyses

We developed this rule after considering numerous statutes and executive orders related to rulemaking. Below we summarize our analyses based on 14 of these statutes or executive orders.

1. Regulatory Planning and Review

This rule is not a significant regulatory action under section 3(f) of Executive Order 12866, Regulatory Planning and Review, as supplemented by Executive Order 13563, Improving Regulation and Regulatory Review, and does not require an assessment of potential costs and benefits under section 6(a)(3) of Executive Order 12866 or under section 1 of Executive Order 13563. The Office of Management and Budget has not reviewed it under those Orders. It is not “significant” under the regulatory policies and procedures of the Department of Homeland Security (DHS).

We conclude that this rule is not a significant regulatory action because we anticipate that it will have minimal impact on the economy, will not interfere with other agencies, will not adversely alter the budget of any grant or loan recipients, and will not raise any novel legal or policy issues.

The safety zone created by this rule will be relatively small and enforced for relatively short duration, and it is designed to minimize the impact on navigation. Under certain conditions, vessels may still transit through the safety zone when permitted by the Captain of the Port. Moreover, this safety zone is outside the navigable channel. Overall, the Coast Guard expects minimal impact to vessel movement from the enforcement of this safety zone.

2. Impact on Small Entities

The Regulatory Flexibility Act of 1980 (RFA), 5 U.S.C. 601-612, as amended, requires federal agencies to consider the potential impact of regulations on small entities during rulemaking. The term “small entities” comprises small businesses, not-for-profit organizations that are independently owned and operated and are not dominant in their fields, and governmental jurisdictions with populations of less than 50,000. The Coast Guard certifies under 5 U.S.C. 605(b) that this rule will not have a significant economic impact on a substantial number of small entities.

This rule will affect the following entities, some of which might be small entities: The owners or operators of vessels intending to transit or anchor in a portion of the Detroit River from 8 a.m. until 8 p.m. on May 29, 30, and 31, 2015.

This safety zone will not have a significant economic impact on a substantial number of small entities for the following reasons: This safety zone is outside of the navigable shipping channel and will not obstruct the regular flow of commercial traffic. Vessels may be allowed to pass through the safety zone with the permission of the Captain of the Port or his designated on-scene representative. The Captain of the Port can be reached via VHF channel 16. The Coast Guard will give notice to the public via a Broadcast to Mariners that the regulation is in effect, allowing vessel owners and operators to plan accordingly.

3. Assistance for Small Entities

Under section 213(a) of the Small Business Regulatory Enforcement Fairness Act of 1996 (Public Law 104-121), we want to assist small entities in understanding this rule to that they can better evaluate its effects on them. If this rule would affect your small business, organization, or governmental jurisdiction and you have questions concerning its provisions or options for compliance, please contact the person listed in the FOR FURTHER INFORMATION CONTACT section above.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against entities that question or complain about this rule or any policy or action of the Coast Guard.

4. Collection of Information

This rule will not call for a new collection of information under the Paperwork Reduction Act of 1995 (44 U.S.C. 3501-3520).

5. Federalism

A rule has implications for federalism under Executive Order 13132, Federalism, if it has a substantial direct effect on the States, on the relationship between the national government and the States, or on the distribution of power and responsibilities among the various levels of government. We have analyzed this rule under that Order and determined that this rule does not have implications for federalism.

6. Protest Activities

The Coast Guard respects the First Amendment rights of protesters. Protesters are asked to contact the person listed in the FOR FURTHER INFORMATION CONTACT section to coordinate protest activities so that your message can be received withou1111t jeopardizing the safety or security of people, places or vessels.

7. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this rule will not result in such expenditure, we do discuss the effects of this rule elsewhere in this preamble.

8. Taking of Private Property

This rule will not cause a taking of private property or otherwise have taking implications under Executive Order 12630, Governmental Actions and Interference with Constitutionally Protected Property Rights.

9. Civil Justice Reform

This rule meets applicable standards in sections 3(a) and 3(b)(2) of Executive Order 12988, Civil Justice Reform, to minimize litigation, eliminate ambiguity, and reduce burden.

10. Protection of Children

We have analyzed this rule under Executive Order 13045, Protection of Children from Environmental Health Risks and Safety Risks. This rule is not an economically significant rule and does not create an environmental risk to health or risk to safety that may disproportionately affect children.

11. Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

12. Energy Effects

This action is not a “significant energy action” under Executive Order 13211, Actions Concerning Regulations That Significantly Affect Energy Supply, Distribution, or Use.

13. Technical Standards

This rule does not use technical standards. Therefore, we did not consider the use of voluntary consensus standards.

14. Environment

We have analyzed this rule under Department of Homeland Security Management Directive 023-01 and Commandant Instruction M16475.lD, which guide the Coast Guard in complying with the National Environmental Policy Act of 1969 (NEPA) (42 U.S.C. 4321-4370f), and have concluded this action is one of a category of actions which do not individually or cumulatively have a significant effect on the human environment. This rule involves the establishment of a safety zone and, therefore it is categorically excluded from further review under paragraph 34(g) of Figure 2-1 of the Commandant Instruction. An environmental analysis checklist supporting this determination and a Categorical Exclusion Determination are available in the docket where indicated under ADDRESSES. We seek any comments or information that may lead to the discovery of a significant environmental impact from this rule.

List of Subjects in 33 CFR Part 165

Harbors, Marine safety, Navigation (water), Reporting and recordkeeping requirements, Security measures, Waterways.

For the reasons discussed in the preamble, the Coast Guard amends 33 CFR part 165 as follows:

PART 165—REGULATED NAVIGATION AREAS AND LIMITED ACCESS AREAS

1. The authority citation for part 165 continues to read as follows:

Authority: 33 U.S.C 1231; 46 U.S.C. Chapters 701, 3306, 3703; 50 U.S.C. 191, 195; 33 CFR 1.05-1, 6.04-1, 6.04-6 and 160.5; Pub. L. 107-295, 116 Stat. 2064; Department of Homeland Security Delegation No. 0170.1.

2. Add § 165.T09-0389 to read as follows:

§ 165.T09-0389 Safety Zone; Detroit Belle Isle Grand Prix, Detroit River, Detroit, MI.

(a) Safety zone. A safety zone is established to include all waters of the Detroit River within a 50-yard wide zone around the western side of Belle Isle in U.S. Waters, of the Detroit River. The area will start on the west side of the Belle Isle Bridge at position 42°20.4′ N.; 082°59.8′ W. to 50 yards offshore; and will end 50 yards offshore south of the Dossin Museum parking lot, and extending to Belle Isle straight north to position 42°20.1′ N.; 082°59.0′ W. All geographic coordinates are North American Datum of 1983.

(b) Effective and enforcement period. This regulation will be enforced from 8 a.m. until 8 p.m. each day on May 29, 30, and 31, 2015.

(c) Regulations. (1) In accordance with the general regulations in section 165.23, entry into, transiting or anchoring within this safety zone is prohibited unless authorized by the Captain of the Port, Detroit, MI, or his designated representative.

(2) This safety zone is closed to all vessel traffic, except as may be permitted by the Captain of the Port Detroit, MI, or his designated on-scene representative.

(3) The on-scene representative of the Captain of the Port is any Coast Guard commissioned, warrant, or petty officer who has been designated by the Captain of the Port to act on his behalf. The on-scene representative will be aboard either a Coast Guard or Coast Guard auxiliary vessel. The Captain of the Port representative may be contacted via VHF channel 16 or at 313-568-9464.

(4) Vessel operators desiring to enter or operate within the safety zone shall contact the Captain of the Port Detroit, MI or his on-scene representative to request permission to do so. Vessel operators given permission to enter or operate in the safety zone must comply with all directions given to them by the Captain of the Port Detroit, MI or his on-scene representative.

Dated: April 11, 2015.
S.B. Lemasters,
Captain, U.S. Coast Guard, Captain of the Port Detroit.

[FR Doc. 2015-12554 Filed 5-22-15; 8:45 am]

BILLING CODE 9110-04-P